FEDERAL HOUSING FINANCE BOARD

Sunshine Act Notice; Meeting

Federal Register Citation of Previous Announcement:

66 FR 1990, January 10, 2001

Previously Announced Time and Date of the Meeting:

10:00 A.M., Wednesday, January 24, 2001

Cancellation of the Meeting:

Notice is hereby given of the cancellation of the Board of Directors meeting scheduled for January 24, 2001.

Contact Person for More Information: Elaine L. Baker, Secretary to the Board, (202) 408-2837.

James L. Bothwell,
Managing Director.

[FR Doc. 01-2401 Filed 1-23-01; 1:48 pm]

BILLING CODE 6725-01-U